ENVIRONMENTAL PROTECTION AGENCY

40 CFR Part 300

[EPA-HQ-SFUND-2000-0003; FRL-9980-72—Region 4]

National Oil and Hazardous Substances Pollution Contingency Plan; National Priorities List: Deletion of the Davis Timber Company Superfund Site

AGENCY: Environmental Protection Agency.

ACTION: Proposed rule; notice of intent.

SUMMARY: The Environmental Protection Agency (EPA) Region 4 is issuing a Notice of Intent to Delete the Davis Timber Company Superfund Site (Site) located in Hattiesburg, Lamar County, Mississippi, from the National Priorities List (NPL). The NPL, promulgated pursuant to section 105 of the Comprehensive Environmental Response, Compensation, and Liability Act (CERCLA) of 1980, as amended, is an appendix of the National Oil and Hazardous Substances Pollution Contingency Plan (NCP). The EPA and the State of Mississippi (State), through the Mississippi Department of Environmental Quality (MDEQ), have determined that all appropriate response actions under CERCLA, other than operations and maintenance and five-year reviews, have been completed. However, this deletion does not preclude future actions under Superfund.

DATES: Comments must be received by August 16, 2018.

ADDRESSES: Submit your comments, identified by Docket ID no. EPA-HQ-SFUND-2000-0003, by one of the following methods:

(1) http://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit http://www2.epa.gov/dockets/commenting-epa-dockets.

(2) Email: Scott Martin, Remedial Project Manager, martin.scott@epa.gov.

(3) Mail: Scott Martin, Remedial Project Manager, Superfund Restoration and Sustainability Branch, Superfund Division, U.S. Environmental Protection Agency, Region 4, 61 Forsyth Street, SW, Atlanta, Georgia 30303-8960.

(4) Hand delivery: USEPA Region 4, 61 Forsyth Street SW, Atlanta, Georgia 30303-8960. Attention: Scott Martin, Remedial Project Manager, Superfund Restoration and Sustainability Branch. Hours of Operation: Monday to Friday 7:30 a.m. to 4:30 p.m. Phone: 404-562-8951.

Instructions: Direct your comments to Docket ID no. EPA-HQ-SFUND-2000-0003. EPA policy is that all comments received will be included in the public docket without change and may be made available online at http://www.regulations.gov, including any personal information provided, unless the comment includes information claimed to be CBI or other information whose disclosure is restricted by statute. Do not submit information that you consider to be CBI or otherwise protected through http://www.regulations.gov or email. The http://www.regulations.gov website is an “anonymous access” system, which means EPA will not know your identity or contact information unless you provide it in the body of your comment. If you send an email comment directly to EPA without going through http://www.regulations.gov, your email address will be automatically captured and included as part of the comment that is placed in the public docket and made available on the internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. Although listed in the index, some information is not publicly available, e.g., CBI or other information whose disclosure is restricted by statue. Certain other material, such as copyrighted material, will be publicly available only in the hard copy. Publicly available docket materials are available either electronically in http://www.regulations.gov or in hard copy at:

(1) USEPA Region 4, 61 Forsyth Street SW, Atlanta, Georgia 30303-8960, Monday-Friday 7:30 a.m.-4:30 p.m., Contact Tina Terrell 404-562-8835; and

(2) Oak Grove Public Library (in the Reference Section) 4958 Old Highway 11, Hattiesburg, Mississippi, 39402, Monday-Friday 9:00 a.m.-6:00 p.m.; and Saturdays 10:00 a.m. to 2:00 p.m.; Phone: 601-296-1620.

FOR FURTHER INFORMATION CONTACT: Scott Martin, Remedial Project Manager, Superfund Restoration and Sustainability Branch, Superfund Division, U.S. Environmental Protection Agency, Region 4, 61 Forsyth Street SW, Atlanta, Georgia 30303-8960, phone 404-562-8916, email: martin.scott@epa.gov.

SUPPLEMENTARY INFORMATION:

Table of Contents

I. Introduction

II. NPL Deletion Criteria

III. Deletion Procedures

IV. Basis for Intended Site Deletion

I. Introduction

The EPA announces its intent to delete the Davis Timber Company Superfund Site from the NPL and requests public comment on this proposed action. The NPL constitutes Appendix B of 40 CFR part 300 which is the NCP, which the EPA promulgated pursuant to section 105 of the Comprehensive Environmental Response, Compensation and Liability Act (CERCLA) of 1980, as amended. The EPA maintains the NPL as the list of sites that appear to present a significant risk to public health, welfare, or the environment. Sites on the NPL may be the subject of remedial actions financed by the Hazardous Substance Superfund (Fund). As described in 40 CFR 300.425(e)(3) of the NCP, sites deleted from the NPL remain eligible for Fund-financed remedial actions if future conditions warrant such actions.

The EPA will accept comments on the proposal to delete this site for thirty (30) days after publication of this document in the Federal Register.

Section II of this document explains the criteria for deleting sites from the NPL. Section III discusses procedures that the EPA is using for this action. Section IV discusses the Davis Timber Superfund Site and demonstrates how it meets the deletion criteria.

II. NPL Deletion Criteria

The NCP establishes the criteria that the EPA uses to delete sites from the NPL. In accordance with 40 CFR 300.425(e), sites may be deleted from the NPL where no further response is appropriate. In making such a determination pursuant to 40 CFR 300.425(e), the EPA will consider, in consultation with the State, whether any of the following criteria have been met:

i. Responsible parties or other persons have implemented all appropriate response actions required;

ii. All appropriate Fund-financed response under CERCLA has been implemented, and no further response action by responsible parties is appropriate; or

iii. The remedial investigation has shown that the release poses no significant threat to public health or the environment and, therefore, the taking of remedial measures is not appropriate.

Pursuant to CERCLA section 121(c) and the NCP, the EPA conducts five-year reviews (FYRs) to ensure the continued protectiveness of remedial actions where hazardous substances, pollutants, or contaminants remain at a site above levels that allow for unlimited use and unrestricted exposure. The EPA conducts such FYRs even if a site is deleted from the NPL. The EPA may initiate further action to ensure continued protectiveness at a deleted site if new information becomes available that indicates it is appropriate. Whenever there is a significant release from a site deleted from the NPL, the deleted site may be restored to the NPL without application of the hazard ranking system.

III. Deletion Procedures

The following procedures apply to deletion of the Site:

(1) The EPA consulted with the State before developing this Notice of Intent to Delete.

(2) The EPA has provided the State 30 working days for review of this notice prior to publication of it today.

(3) In accordance with the criteria discussed above, the EPA has determined that no further response is appropriate.

(4) The State, through the MDEQ, has concurred with deletion of the Site from the NPL.

(5) Concurrently with the publication of this Notice of Intent to Delete in the Federal Register, a notice is being published in a major local newspaper, Hattiesburg American. The newspaper notice announces the 30-day public comment period concerning the Notice of Intent to Delete the site from the NPL.

(6) The EPA placed copies of documents supporting the proposed deletion in the deletion docket and made these items available for public inspection and copying at the Site information repositories identified above.

If comments are received within the 30-day public comment period on this document, the EPA will evaluate and respond appropriately to the comments before making a final decision to delete. If necessary, the EPA will prepare a responsiveness summary to address any significant public comments received. After the public comment period, if the EPA determines it is still appropriate to delete the Site, the Regional Administrator will publish a final Notice of Deletion in the Federal Register. Public notices, public submissions and copies of the responsiveness summary, if prepared, will be made available to interested parties and in the site's information repositories listed above.

Deletion of a site from the NPL does not itself create, alter, or revoke any individual's rights or obligations. Deletion of a site from the NPL does not in any way alter the EPA's right to take enforcement actions, as appropriate. The NPL is designed primarily for informational purposes and to assist the EPA management. Section 300.425(e)(3) of the NCP states that the deletion of a site from the NPL does not preclude eligibility for future response actions, should future conditions warrant such actions.

IV. Basis for Site Deletion

The following information provides the EPA's rationale for deleting the Site from the NPL.

Site Background and History

The Davis Timber Company Site is located at 107 Jackson Road, approximately 6 miles northwest of Hattiesburg, in Lamar County, Mississippi. The Davis Timber Company produced treated pine poles, pilings, and timber at the Site from 1972 to 1987. Operations at the Site included bark removal, treatment of wood with pentachlorophenol (PCP), and product storage. The Site is approximately 30 acres and was comprised of a scragg mill, debarker, pole peeler, office and shop, treatment cylinder, cooling pond, oil storage tank, two aboveground PCP-solution storage tanks, a storage yard, and a large former PCP and waste bark Impoundment (Impoundment).

Surface soil on the Site consists of a very thin layer of sandy clay, which overlies a very thick clay unit, the Hattiesburg formation, that inhibits vertical migration of precipitation. Surface water runoff from the property flows into two intermittent tributaries of Mineral Creek: East Mineral Creek and West Mineral Creek. Mineral Creek flows northeast into Country Club Estates Lake, a 66-acre lake located approximately 1.25 miles downstream of the Site. Country Club Estates Lake is a recreational fishery and designated recreation area. Wastewater from Site operations containing PCP, dioxin and furan compounds, was discharged into the Impoundment. In 1980, the Impoundment was backfilled and capped by the property owner with approximately 6 to 8 inches of clay.

Between December 1974 and January 1987, the MDEQ documented six fish kills in Country Club Estates Lake. Several of the fish kills were attributed to documented releases of PCP from the Impoundment. In 1987, MDEQ ordered Davis Timber Company to discontinue wood preserving operations. According to MDEQ, Davis Timber Company subsequently declared bankruptcy in 1990. Since 1987, Mississippi officials collected fish from Country Club Estates Lake seven times and analyzed the fish tissue for dioxin compounds. In 1989, after obtaining the first set of fish tissue data, MDEQ issued an advisory against both commercial fishing and consumption of fish caught in Country Club Estates Lake due to the high levels of dioxin compounds in the fish tissue. In 1989, the Agency for Toxic Substances and Disease Registry (ATSDR) was petitioned by the MDEQ to conduct a public health assessment at Country Club Estates Lake on behalf of the residents of Country Club Estates. In that public health assessment, released in January 1993, ATSDR classified Country Club Estates Lake as a public health hazard because of concentrations of PCP and chlorinated dibenzodioxins (dioxins) and dibenzofurans (furans) detected in the Lake. In July 2000, MDEQ collected fish from Country Club Estates Lake. According to these sampling results, dioxin levels in fish from Country Club Estates Lake declined below 5 pg/g, which is Mississippi's lower limit for issuing consumption advisories for dioxin. In June 2001, Mississippi officials lifted the ban on consumption of fish caught near the Site because dioxin levels in fish showed a significant decrease over a 10-year period.

The Site was proposed as a NPL Site on May 11, 2000 (65 FR 30489). It was finalized as a NPL Site in July 2000 (65 FR 46096). The EPA's Identification Number is MSD046497012.

Remedial Investigation and Feasibility Study (RI/FS)

The Remedial Investigation (RI) was conducted by the EPA Region 4 Science and Ecosystem Support Division (SESD) between May 2000 and September 2001. During this period, SESD collected 30 subsurface soil samples, 6 groundwater samples, 51 sediment samples, 11 surface water samples, 27 surface soil samples, and multiple fish tissue samples (individual and composite). The Site was divided into 49 grids measuring 200-ft by 200-ft except in the central-northern portion of the Site, which was divided into 100-ft by 100-ft grids. A 3 to 5-point composite surface sample was collected from each grid and a subsurface sample was collected from the center of each grid at a depth of 18 to 24 inches.

Contamination was delineated based on those constituents detected at concentrations exceeding the EPA Region 9 Preliminary Remediation Goals (PRGs) and/or Federal Maximum Contaminant Levels (MCLs) for surface water and groundwater; or human health risk-based Region 4 PRGs (e.g., for dioxins/furans in soil and sediment). Risk-based remediation goals derived from Site-specific data are identified by the Human Health Risk Assessment (HHRA) for residential, industrial and recreational receptors and the ecological risk assessment. Arsenic, aluminum, thallium, and iron are identified in soil as chemicals of potential concern (COPCs) assuming residential use of the property in the RI; however, they were not Chemicals of Concern (COCs) when considering the property will likely be utilized for a recreational future land use, not residential purposes. As a result, COCs for the Site are limited to PCP and dioxin/furans.

Appreciable quantities of groundwater have not been observed at the Site. Of the four permanent monitoring wells installed outside the Impoundment area, only one produced an adequate quantity of water to collect a groundwater sample. No Volatile Organic Compounds (VOCs), PCP, or Polycyclic Aromatic Hydrocarbons (PAHs) were detected in the groundwater sample collected from this well outside the Impoundment area. Temporary monitoring wells were installed and sampled in the initial field investigation. After evaluation of historical aerial photographs, it is believed these temporary monitoring wells were installed within the footprint of the Impoundment and the fluid sampled was not groundwater but fluid remaining within the Impoundment. The four permanent monitoring wells have been properly abandoned. The groundwater was not a pathway of contaminant migration, and a groundwater response action was not required.

Selected Remedy

The site is comprised of one Operable Unit (OU). The Record of Decision (ROD) for the Davis Timber Site was signed on September 24, 2009 following consideration of public comment on the proposed plan. The Site's ROD identified the following Remedial Action Objectives (RAOs):

i. Reduce or eliminate human exposure to contaminated surface and subsurface soil;

ii. Reduce human exposure to contaminated surface water; and

iii. Reduce exposure of ecological receptors to contaminated surface soil and sediment.

The remedial action specified for this site has been deemed necessary by the EPA to protect public health, welfare, and the environment from actual or threatened releases of hazardous substances from this site into the environment. The remedial actions chosen for the Site are summarized as follows:

(1) Extract the liquid from the closed Impoundment, and treat the liquid to remove the dissolved contamination and discharge the clean water to West Mineral Creek;

(2) Move a 500 to 1,000-foot portion of West Mineral Creek (immediately adjacent to the Impoundment area) approximately 200 feet west of its current location;

(3) Construct an earthen retaining wall or berm structure along the western boundary of the Impoundment between it and the relocated portion of West Mineral Creek;

(4) Excavate and move contaminated soil into the Impoundment area;

(5) Dredge contaminated sediment from the creeks, ponds, and wetlands, and remove excess water and move into the Impoundment area;

(6) Construct a cap over the Impoundment area (designed with a stabilizing sub-cap);

(7) Backfill excavated and dredged locations with clean borrow material;

(8) Implement land-use/deed restrictions to limit construction over the capped Impoundment and contaminated soil areas;

(9) Grade and prepare the site for optimal storm water drainage control; and

(10) Establish and implement a long-term monitoring program to assess the effectiveness of the remedial action.

Response Actions

Remedial action physical construction activities began during October 2011 following receipt of remedial action funding through the President's Jobs Initiative Program. Remedial action construction services were procured through the existing Region 4 Emergency Response and Removal Services (ERRS) contract.

Construction activities were completed in August 2012, and included the following:

(1) Site clearing and demolition of on-site structures;

(2) Installation of the Impoundment liquid extraction and treatment system (this system treated approximately 539,000 gallons of liquid);

(3) West Mineral Creek Relocation (relocated approximately 1,046 linear feet of creek approximately 200 feet west of its current location);

(4) Impoundment berm construction;

(5) Cooling pond and areas of surface soil contamination excavation (excavated approximately 3,060 cubic yards);

(6) East Mineral Creek Excavation (approximately 525 linear feet and 101 cubic yards of soil);

(7) Impoundment cap construction; and

(8) Final grading and vegetation.

The selected remedy required Institutional Controls (land use or deed restrictions) to control and limit on-site activities to preserve the integrity of the capped Impoundment and all components of the engineered containment system. Site use is restricted to activities compatible with the future anticipated recreational land use.

The Site parcel has an environmental covenant which does not allow residential use and restricts excavation before meeting notification requirements of Mississippi's One Call law.

Cleanup Levels

The RA successfully achieved compliance with the defined performance standards documented in the ROD and the RD.

Impoundment Water Extraction and Treatment

The water extraction and treatment system removed and treated 539,454 gallons of contaminated water from the closed Impoundment. Approximately 77 percent of the water was removed from the Impoundment. The remedial design established performance standards for the treatment system discharge to West Mineral Creek as the Mississippi Water Quality Criteria for Intrastate, Interstate and Coastal Waters. These standards comply with the requirements of a Mississippi National Pollutant Discharge Elimination System (NPDES) permit. Operation of the treatment system continued until May 30, 2012, when diminishing recovery volumes and water levels indicated the practical limit of dewatering had been reached.

Soil

The remedial design specified excavation of contaminated soil from two areas of the Site:

(1) Within the footprint of the former cooling pond; and

(2) Within the delineated area of surface soil contamination surrounding the former cooling pond and process area.

Two additional areas of contaminated soil were discovered during the remedial action and were also excavated:

(1) Beneath the former maintenance building; and

(2) Beneath the location of the former treatment cylinder.

Contaminated soil in these additional soil areas were excavated and disposed of in the Impoundment area until the visible extent of contamination was removed and vapor screening indicated total organic vapors of less than 10 parts per million.

Post-excavation subsurface soil samples collected from the base of the cooling pond excavation and the surface soil excavation were analyzed for dioxins, furans and PCP. The 2013 Remedial Action Report summarized the sampling results as follows:

(1) Three composite subsurface soil samples were collected from the base of the cooling pond excavation and compared to the dioxin Toxic Equivalency Quotient (TEQ) cleanup level of 5 µg/kg. All three sample results were below the cleanup level, ranging from 0.088 to 0.40 µg/kg.

(2) Five composite subsurface soil samples and one duplicate sample were collected from the bottom of the surface soil excavation area. All of the sample results were below the dioxin TEQ cleanup goal of 5 µ g/kg.

Sediment

Prior to excavation, the EPA contractor collected additional sediment samples from East Mineral Creek and analyzed for dioxins and furans. All results were below the cleanup goal for dioxin TEQs. Contaminated sediment was excavated from three areas of East Mineral Creek that had shown the highest concentrations during the RI. A total of 101 cubic yards of sediment was removed and disposed of in the closed Impoundment area. Three post-excavation sediment samples and one duplicate sample were collected from the creek to confirm that cleanup goals were achieved. Dioxin TEQ results were below the ROD cleanup level of 1.9 µg/kg for all samples, with values ranging from 0.21 to 0.73 µg/kg. All samples collected during the RI were below the sediment cleanup goal for PCP except for one (8,200 µg/kg, performance standard 7,600 µg/kg).

Groundwater

No appreciable quantities of groundwater have been observed at the Site. Of the four permanent monitoring wells installed outside the Impoundment area, only one produced an adequate quantity of water to collect a groundwater sample. No volatile organic compounds (VOCs), PCP, or polycyclic aromatic hydrocarbons (PAHs) were detected in the groundwater sample collected from this well outside the Impoundment area.

Post-excavation soil sampling performed by Onedia Total Integrated Enterprise (OTIE) confirmed that soil and sediment cleanup levels were achieved. All work performed by WRS Compass (WRSC) during the RA was conducted in accordance with the RD specifications, unless otherwise documented and approved by the EPA Remedial Project Manager (RPM). The EPA had a representative on-site for much of the RA construction who, in conjunction with the OTIE representative, ensured that the remedy was constructed in accordance with the RD specifications and that the construction quality control requirements of the specifications were strictly adhered to.

Operations and Maintenance

The responsibility for operations and maintenance (O&M) was transferred to the State on October 20, 2014. Future O&M activities at the site are expected to be limited to mowing, inspections, and FYRs. Periodic inspections will need to be implemented to ensure the Impoundment cap and berm retain their integrity, and to ensure that stormwater and sediment controls, the West Mineral Creek channel, and revegetated areas operate as intended.

Five-Year Review

The purpose of a the FYR is to evaluate the implementation and performance of a remedy to determine if the remedy is and will continue to be protective of human health and the environment. In addition, FYR reports identify issues found during the review, if any, and document recommendations to address them. The first FYR was conducted in December 2016.

The FYR was conducted pursuant to the Comprehensive Environmental Response, Compensation and Liability Act (CERCLA) section 121, consistent with the NCP (40 CFR 300.430(f)(4)(ii)), and considering the EPA policy. The triggering action for this statutory review is the on-site construction start date of the remedial action. The FYR has been prepared because hazardous substances, pollutants or contaminants remain at the Site above levels that allow for unlimited use and unrestricted exposure (UU/UE).

The Site consists of one operable unit (OU1), and OU1 consisted of all contaminated media, which includes soil and sediment, associated with the Site.

The FYR concluded that the remedy at OU1 currently protects human health and the environment because there are no completed exposure pathways; contaminated soil and sediment were excavated and capped, and Impoundment water was treated and discharged. The FYR had no issues or recommendations. The next FYR will be conducted in 2021.

Community Involvement

Throughout the removal and remedial process, the EPA has kept the public informed of the activities being conducted at the Site by way of public meetings, progress fact sheets, and the announcement through local newspaper advertisement on the availability of documents related to the site and FYRs.

The notice of the availability of the Administrative Record and an announcement of the Proposed Plan for a public meeting was published in the Hattiesburg American newspaper on July 15, 2009. A public comment period was held from July 15, 2009, to August 14, 2009. The Proposed Plan was presented to the community during a public meeting on August 10 at the Breland Community Center, 79 Jackson Road, Hattiesburg, MS 39402. At this meeting, representatives from the EPA and MDEQ answered questions from the community concerning the proposed remedy and the remedial alternatives that were evaluated. The Administrative Record file was available to the public and was placed in the information repository maintained at the EPA Region 4 Superfund Record Center and at the Oak Grove Public Library (in the Reference Section) 4958 Old Highway 11, Hattiesburg, Mississippi, 39402.

Public participation activities have been satisfied as required in CERCLA section 113(k), 42 U.S.C. 9613(k) and CERCLA section 117, 42 U.S.C. 9617. Documents in the deletion docket, which the EPA relied on for recommendation of the deletion from the NPL, are available to the public in the information repositories identified above.

Determination That the Site Meets the Criteria for Deletion in the NCP

The EPA has followed the procedures required by 40 CFR 300.425(e) as mentioned above and the implemented remedy achieves the degree of cleanup specified in the ROD for all pathways of exposure. Specifically, post-excavation soil sampling performed by OTIE confirmed that soil and sediment cleanup levels were achieved. These results verify that the Site has achieved the ROD cleanup standards, and that all cleanup actions specified in the ROD have been implemented. All selected remedial and removal action objectives and associated cleanup levels are consistent with agency policy and guidance. This Site meets all the site completion requirements as specified in Office of Solid Waste and Emergency Response (OSWER) Directive 9320.22, Close-Out Procedures for National Priorities List Sites. No further Superfund response is needed to protect human health and the environment.

The EPA, with concurrence of the State through MDEQ, has determined that all appropriate response actions under CERCLA have been completed. Therefore, the EPA is proposing to delete the Site from the NPL.

List of Subjects in 40 CFR Part 300

Environmental protection, Air pollution control, Chemicals, Hazardous substances, Hazardous waste, Intergovernmental relations, Penalties, Reporting and recordkeeping requirements, Superfund, Water pollution control, Water supply.

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

Dated: July 3, 2018.
Onis “Trey” Glenn, III,
Regional Administrator, Region 4.

[FR Doc. 2018-15243 Filed 7-16-18; 8:45 am]

BILLING CODE 6560-50-P